DEPARTMENT OF EDUCATION

National Institute on Disability and Rehabilitation Research (NIDRR)—Disability and Rehabilitation Research Projects and Centers Program—Rehabilitation Research and Training Centers (RRTCs)

AGENCY: Office of Special Education and Rehabilitative Services, Department of Education.

ACTION: Notice of final priorities for RRTCs.

SUMMARY: The Assistant Secretary for Special Education and Rehabilitative Services announces four priorities for RRTCs under the Disability and Rehabilitation Research Projects and Centers Program administered by NIDRR. The Assistant Secretary may use one or more of these priorities for competitions in fiscal year (FY) 2008 and later years. We take this action to focus research attention on areas of national need. We intend these priorities to improve rehabilitation services and outcomes for individuals with disabilities.

DATES: Effective Date: These priorities are effective August 7, 2008.

FOR FURTHER INFORMATION CONTACT: Donna Nangle, U.S. Department of Education, 400 Maryland Avenue, SW., room 6029, Potomac Center Plaza (PCP), Washington, DC 20202. Telephone: (202) 245-7462 or by e-mail: donna.nangle@ed.gov.

If you use a telecommunications device for the deaf (TDD), call the Federal Relay Service (FRS), toll free, at 1-800-877-8339.

Individuals with disabilities can obtain this document in an alternative format (e.g., Braille, large print, audiotape, or computer diskette) on request to the contact person listed under FOR FURTHER INFORMATION CONTACT.

SUPPLEMENTARY INFORMATION: We published a notice of proposed priorities (NPP) for NIDRR's RRTC program in the Federal Register on April 28, 2008 (73 FR 22932). The NPP included background statements that described our rationale for the priorities proposed in that notice.

There are differences between the NPP and this notice of final priorities (NFP) as discussed in the following section.

Analysis of Comments and Changes

In response to our invitation in the NPP, five parties submitted comments on the proposed priorities. An analysis of the comments and of any changes in the priorities since publication of the NPP follows.

Generally, we do not address technical and other minor changes, or suggested changes the law does not authorize us to make under the applicable statutory authority. In addition, we do not address comments that raised concerns not directly related to the proposed priorities.

General Comments

Comment: With regard to priorities 1 through 3, one commenter noted that “scientifically based research” is required only for research activities that require testing interventions. This commenter recommended that all research conducted under these priorities be “scientifically based.”

Discussion: NIDRR only requires “scientifically based research” for research activities that involve testing interventions. The definition of “scientifically based research” used in all of the priorities in this notice emphasizes the use of “experimental or quasi-experimental designs in which individuals, entities, programs, or activities are assigned to different conditions and with appropriate controls to evaluate the effects of the condition of interest, with a preference for random-assignment experiments” (See section 9101(37) of the Elementary and Secondary Education Act of 1965, as amended by the No Child Left Behind Act of 2001 for the definition of the term “scientifically based research.”). NIDRR believes that experimental research designs are appropriate for research that involves testing interventions, but not necessarily for the other research activities to be carried out under these priorities. For example, experimental designs are not generally appropriate or necessary in the initial stages of developing new measures and methods, identifying or developing interventions, or determining the experiences and outcomes of individuals with disabilities who seek to return to work.

Changes: None.

Comment: One commenter noted that each of the proposed priorities included an incorrect reference for the Department's definition of the term scientifically based research.

Discussion: We agree and will make this change.

Changes: In all four priorities, we have changed the reference for the Department's definition of scientifically based research to section 9101(37) of the Elementary and Secondary Education Act of 1965, as amended by the No Child Left Behind Act of 2001.

Comment: Two commenters recommended that NIDRR remove all references to employment from priorities 1 through 3. One of these commenters noted that NIDRR's Long Range Plan for fiscal years 2005-2009 (Plan) acknowledges the continued need for research on medical rehabilitation interventions to improve function, as well as health research to improve outcomes such as health and wellness. This commenter suggested that including an employment-related outcome in the priorities that focus primarily on health and function topics will dilute the impact of research carried out under NIDRR's employment and health and function domains. This commenter also expressed concern that the focus on employment outcomes would preclude research on community participation outcomes and recommended that NIDRR include in each priority a statement from its Plan that acknowledges the importance of health and function among people with disabilities to achieve NIDRR's mission and the goals of employment and community participation.

Discussion: NIDRR does not agree with these comments and the associated recommendations. In the Plan, we state: “While the proposed plan is organized along domains of research [e.g., employment, health and function, participation and community living] for the sake of manageability, it also makes clear that disability is a holistic phenomenon that involves many overlapping and cross-domain issues.” (See 71 FR 8166, 8166.) We also note, “In addition, with respect to those programs for which NIDRR establishes annual priorities—Rehabilitation Research and Training Centers (RRTCs), Rehabilitation Engineering Research Centers (RERCs), and Disability and Rehabilitation Research Projects (DRRPs)—NIDRR may require applicants to focus on one or more target populations or issues that cut across domains.” We indicate clearly in the Plan that RRTCs are expected to be multidisciplinary—in other words, to combine the strengths and perspectives of researchers from multiple disciplines and areas of expertise. (See 71 FR 8166, 8177.) Therefore, we believe that a focus on employment in priorities 1 through 3 is consistent with the multidisciplinary approach in the Plan.

Although a mandatory focus on employment outcomes in these priorities may limit research activities related to outcomes in other domains, NIDRR believes that research involving both the health and function and employment domains will generate knowledge that can be used to improve both medical rehabilitation and vocational rehabilitation (VR) services for individuals with disabilities. NIDRR recognizes that there are many factors likely to affect the relationship between health and functional abilities, on the one hand, and employment outcomes, on the other. Research under these priorities can help provide insight into this relationship so that medical and VR services can be optimized and targeted appropriately.

Changes: None.

Comment: Referring to priorities 1 through 3, one commenter recommended removing the requirement that the centers recruit research participants from VR populations. The commenter noted that such a requirement would unnecessarily limit study populations, create recruitment barriers, and result in unnecessarily expensive and lengthy studies to demonstrate empirical relationships between health and functional status and employment outcomes.

Discussion: Proposed priorities 1 through 3 did not require recruitment of research participants from populations of individuals who are served by State VR programs. The priorities state that the center must conduct research on individuals who are served by the State VR Services program, or who receive rehabilitation services from other sources.

Changes: None.

Priority 2—Enhancing the Functional and Employment Outcomes of Individuals With Multiple Sclerosis

Comment: In reference to language in paragraph (b) of this priority, one commenter noted that research and clinical information indicate that the vast majority of individuals with multiple sclerosis (MS) already live in community settings. The commenter stated that it is important to support research that improves the ability of individuals with MS to participate in the community and suggested that NIDRR revise the priority to reflect that focus.

Discussion: We intended to emphasize the need for research to improve employment and community participation outcomes in this priority. We will change the priority to clarify our intent.

Changes: In paragraph (b) of this priority, we have clarified that the grantee must examine, among other things, interventions to enhance community participation.

Comment: One commenter stated that there is a need for research on strategies and assistive devices that enhance the functional and community participation outcomes among individuals with MS.

Discussion: While NIDRR agrees with the commenter that there is a need for research about strategies and assistive devices to enhance the functional and community participation outcomes for individuals with MS, NIDRR does not believe that it is necessary to revise the priority to address this specific need. Applicants under this priority already have flexibility to choose the types of interventions they propose to identify, or to develop and evaluate. Assistive devices are one specific type of intervention that could be examined under this priority.

Changes: None.

Priority 3—Aging With Physical Disability: Reducing Secondary Conditions and Enhancing Health and Participation, Including Employment

Comment: One commenter asked whether applicants under this priority must choose from the list of impairment groups in the second paragraph of the priority when selecting the groups that will be the focus of their research.

Discussion: The short list of impairment groups in the priority provides examples; applicants are not restricted to this list. Applicants are free to select the group or groups that will be the focus of their research.

Changes: None.

Comment: One commenter asked whether the focus of this priority is exclusively on individuals with disabilities who are 65 years of age or older, or if the focus is also on adults with disabilities in middle age.

Discussion: NIDRR does not intend for this center to focus only on individuals with disabilities who are 65 years of age or older. As we describe in the background statement for this priority, NIDRR is interested in the experience of individuals who acquired their disability at birth, childhood, or early adulthood and who are now aging. We will add language to the priority to make this clear.

Changes: We have changed the language to clarify that the center funded under this priority must focus its research on individuals with a physical disability, including those who acquired their disability at birth, in childhood, or in early adulthood and who are now aging into middle or late adulthood.

Comment: One commenter noted that the prevention of falls among individuals with physical disabilities should be a key research priority.

Discussion: NIDRR agrees that the prevention of falls is a topic that is relevant to individuals who are aging with physical disabilities. Applicants are free to propose research on this topic under this priority.

Changes: None.

Priority 4—Participation and Community Living for Individuals With Psychiatric Disabilities

Comment: One commenter requested that NIDRR provide references to the Substance Abuse and Mental Health Services Administration's (SAMHSA's) Best Practices Planning and Implementation Grants program, to facilitate collaboration of the center funded under this priority with this program.

Discussion: NIDRR agrees that SAMHSA's Best Practices Planning and Implementation Grants program may be a potential source of information for, or potential collaborator of, the center funded under this priority. NIDRR typically references in its priorities only those programs or entities with which the grantee is required to collaborate. In this case, NIDRR does not believe it is appropriate to require all applicants to propose to collaborate with this SAMHSA program. For this reason, NIDRR declines to reference the SAMHSA program in the text of this priority.

Changes: None.

Note: This notice does not solicit applications. In any year in which we choose to use these final priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

This notice of final priorities (NFP) is in concert with President George W. Bush's New Freedom Initiative (NFI) and NIDRR's Final Long-Range Plan for FY 2005-2009 (Plan). Background information on the NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priorities

In this notice, we are announcing four priorities for RRTCs.

• Priority 1—Enhancing the Functional and Employment Outcomes of Individuals Who Experience a Stroke.

• Priority 2—Enhancing the Functional and Employment Outcomes of Individuals With Multiple Sclerosis.

• Priority 3—Aging With Physical Disability: Reducing Secondary Conditions and Enhancing Health and Participation, Including Employment.

• Priority 4—Participation and Community Living for Individuals With Psychiatric Disabilities.

Rehabilitation Research and Training Centers (RRTCs)

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority, which was published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Priorities

Priority 1—Enhancing the Functional and Employment Outcomes of Individuals Who Experience a Stroke

The Assistant Secretary for Special Education and Rehabilitative Services announces a priority for a Rehabilitation Research and Training Center (RRTC) on Enhancing the Functional and Employment Outcomes of Individuals Who Experience a Stroke. This RRTC must conduct rigorous research, training, technical assistance, and dissemination activities to enhance the functional and employment outcomes of individuals who experience a stroke.

In doing so, the RRTC must focus on no more than two of the following dimensions: Improved mobility, secondary conditions (e.g., pain, fatigue), and emotional well-being. Under this priority, the RRTC must be designed to contribute to the following outcomes:

(a) Improved outcome measures for use with individuals who experience a stroke. The RRTC must contribute to this outcome by identifying or developing and testing methods and measures to assess outcomes in the dimensions that the RRTC chooses to focus on (e.g., mobility, secondary conditions, emotional well-being).

(b) Improved medical rehabilitation or community-based rehabilitation interventions for individuals who experience a stroke. The RRTC must contribute to this outcome by identifying or developing and testing new rehabilitation interventions that are designed to improve mobility, reduce the onset of secondary conditions, or improve emotional well-being among individuals who experience a stroke. Where possible, the RRTC must use scientifically based research (as this term is defined in section 9101(37) of the Elementary and Secondary Education Act of 1965, as amended by the No Child Left Behind Act of 2001) methods to test these interventions.

(c) Improved employment outcomes among individuals who experience a stroke. The RRTC must contribute to this outcome by conducting research on the experiences and outcomes of individuals who experience a stroke and who seek to return to work. The RRTC's research must include research on individuals who are served by the State Vocational Rehabilitation (VR) Services program or who receive stroke/neuro-rehabilitation services from other sources, and must identify neuro-rehabilitation services that are associated with positive outcomes in the treatment of specific stroke-related impairments and functional limitations thereby allowing individuals to return to work.

Priority 2—Enhancing the Functional and Employment Outcomes of Individuals With Multiple Sclerosis

The Assistant Secretary for Special Education and Rehabilitative Services announces a priority for a Rehabilitation Research and Training Center (RRTC) on Enhancing the Functional and Employment Outcomes of Individuals With Multiple Sclerosis. This RRTC must conduct rigorous research, training, technical assistance, and dissemination activities to enhance the functional and employment outcomes of individuals with multiple sclerosis (MS).

In doing so, the RRTC must focus on how one or both of the following dimensions affect the employment outcomes of individuals with MS: The prevention or reduction of secondary conditions (e.g., pain, fatigue, depression, cognitive impairment) and improved mobility. Under this priority, the RRTC must be designed to contribute to the following outcomes:

(a) Improved outcome measures for use with individuals with MS. The RRTC must contribute to this outcome by identifying or developing and testing methods and measures to assess outcomes in the dimensions on which the RRTC chooses to focus.

(b) Improved medical rehabilitation or community-based rehabilitation interventions. The RRTC must contribute to this outcome by improving the ability of individuals with MS to remain in the workforce and to participate in the community through identifying or developing and testing new rehabilitation interventions. Where possible, the Center must use scientifically based research (as this term is defined in section 9101(37) of the Elementary and Secondary Education Act of 1965, as amended by the No Child Left Behind Act of 2001) methods to test these interventions.

(c) Improved employment outcomes among individuals with MS. The RRTC must contribute to this outcome by conducting research on the experiences and outcomes of individuals with MS who are served by the State Vocational Rehabilitation Services (VR) program or who receive MS-rehabilitation services from other sources, and by identifying rehabilitation services that are associated with the reduction of specific MS-related symptoms and functional limitations. Research must include investigation of job modifications and accommodations associated with successful employment.

Priority 3—Aging With Physical Disability: Reducing Secondary Conditions and Enhancing Health and Participation, Including Employment

The Assistant Secretary for Special Education and Rehabilitative Services announces a priority for a Rehabilitation Research and Training Center (RRTC) on Aging With Physical Disability: Reducing Secondary Conditions and Enhancing Health and Participation, Including Employment. This RRTC must conduct rigorous research, training, technical assistance, and dissemination activities to improve rehabilitation outcome measures and rehabilitation interventions that can be applied in clinical or community-based settings and used by other researchers. The intended outcome of the RRTC is to enhance community participation, including employment, of individuals aging with long-term physical disabilities by advancing knowledge about the identification, assessment, treatment, and improved management of the secondary conditions likely experienced by individuals aging with a physical disability. Individuals aging with a physical disability include those who acquired their disability at birth, in childhood, or in early adulthood and who are now aging into middle or late adulthood.

In addressing this priority, the RRTC must propose a limited number of high-quality, cross-disability research projects to address the secondary conditions that are most relevant to the lives of individuals with physical disabilities. To ensure the feasibility of the RRTC's proposed activities and increase the likelihood of achieving the planned outcomes, the RRTC must focus on two to four discrete impairment groups (e.g., spinal cord injury, cerebral palsy, multiple sclerosis, rheumatoid arthritis, stroke, post-polio) and must limit intervention strategies to no more than two of the following modalities: exercise, health promotion, psychological adaptation, life planning or self-management skills, and environmental or technological supports. Under this priority, the RRTC must be designed to contribute to the following outcomes:

(a) Enhanced understanding of the natural course of aging with a physical disability. The RRTC must contribute to this outcome by documenting the life trajectories and average age of onset of the major types of secondary conditions experienced by individuals living with long-term physical disabilities in the selected impairment groups, and examining the interrelationships among different types of secondary conditions and the consequences of variations in timing of onset for health and community participation.

(b) Improved tools and measures for use with individuals aging with long-term physical disabilities. The RRTC must contribute to this outcome by identifying, developing or modifying, and testing measurement tools that improve the identification and assessment of the major types of secondary conditions affecting individuals in the selected impairment groups, as well as the outcomes of interventions designed to prevent or reduce these conditions.

(c) Improved rehabilitation or community-based interventions that enhance the health and participation in work and the community of individuals aging with physical disabilities. The RRTC must contribute to this outcome by identifying, developing or modifying, and testing interventions that show promise in preventing the onset of or improving the management and reducing the impact of secondary conditions on individuals in the selected impairment groups. Where possible, the RRTC must use scientifically based research (as this term is defined in section 9101(37) of the Elementary and Secondary Education Act of 1965, as amended by the No Child Left Behind Act of 2001) methods to test these interventions.

(d) Improved employment outcomes among working-age individuals aging with long-term physical disabilities. The RRTC must contribute to this outcome by conducting research on the experiences, including employment outcomes, of individuals aging with long-term physical disabilities in the selected impairment groups who are served by the State Vocational Rehabilitation (VR) Services program or who receive rehabilitation services from other sources, and by identifying specific secondary conditions that require improved and unique VR services and approaches.

Priority 4—Participation and Community Living for Individuals With Psychiatric Disabilities

The Assistant Secretary for Special Education and Rehabilitative Services announces a priority for a Rehabilitation Research and Training Center (RRTC) on Participation and Community Living for Individuals With Psychiatric Disabilities. The RRTC must conduct rigorous research, training, technical assistance, and dissemination activities that contribute to improved community participation and community living outcomes for individuals with psychiatric disabilities. Under this priority, the RRTC must be designed to contribute to the following outcomes:

(a) Improved individual and system capacity to maximize the participation of individuals with psychiatric disabilities in community life. The RRTC must contribute to this outcome by:

(1) Generating new knowledge through research on effective strategies to meet the needs of individuals with psychiatric disabilities who are served by centers for independent living and identifying independent living services and service-delivery approaches that meet the unique needs of this population.

(2) Increasing the knowledge base and advancing the application of theories, measures, methods, or interventions that facilitate participation and community living of individuals with psychiatric disabilities. In this regard, the RRTC must focus its efforts on at least three of the following areas: Employment, housing, education, health and mental health care, recreation, social relationships, or other public and private sector activities related to community living. If the RRTC engages in testing interventions, the RRTC must use scientifically based research (as this term is defined in section 9101(37) of the Elementary and Secondary Education Act of 1965, as amended by the No Child Left Behind Act of 2001) methods.

(3) Reducing disparities in service delivery and program development by focusing its work on one or more of the following understudied areas: (i) Emergency preparedness for individuals with psychiatric disabilities; (ii) individuals with psychiatric disabilities from diverse racial, ethnic, and linguistic backgrounds; or (iii) individuals with psychiatric disabilities who have co-occurring sensory or physical disabilities.

(b) Increased incorporation of mental health research findings into practice or policy. The RRTC must contribute to this outcome by coordinating with appropriate NIDRR-funded knowledge translation grantees to advance or add to their work in the following areas:

(1) Developing and implementing procedures to evaluate the readiness of mental health research findings for translation into practice.

(2) Collaborating with stakeholder groups to develop, evaluate, or implement strategies to increase utilization of mental health research findings.

(3) Conducting training, technical assistance, and dissemination activities to increase utilization of mental health research findings.

Information on knowledge translation projects funded by NIDRR can be found at http://www.naric.com/research/pd/priority.cfm.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of Potential Costs and Benefits

The benefits of the Disability and Rehabilitation Research Projects and Centers Programs have been well established over the years in that similar projects have been completed successfully. These final priorities will generate new knowledge and technologies through research, development, dissemination, utilization, and technical assistance projects.

Another benefit of these final priorities is that the establishment of new RRTCs will support the President's NFI and improve the lives of individuals with disabilities. The new RRTCs will generate, disseminate, and promote the use of new information that will improve employment and community living options for individuals with disabilities.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133B Rehabilitation Research and Training Centers Program)

Program Authority: 29 U.S.C. 762(g) and 764(b)(2).

Dated: July 2, 2008.
Tracy R. Justesen,
Assistant Secretary for Special Education and Rehabilitative Services.

[FR Doc. E8-15503 Filed 7-7-08; 8:45 am]

BILLING CODE 4000-01-P